NATIONAL CREDIT UNION ADMINISTRATION

Agency Information Collection Activities: Submission to OMB for Revision to a Currently Approved Information Collection; Comment Request

AGENCY: National Credit Union Administration (NCUA).

ACTION: Request for comment.

SUMMARY: The NCUA intends to submit the following information collection to the Office of Management and Budget (OMB) for review and clearance under the Paperwork Reduction Act of 1995 (Pub. L. 104-13, 44 U.S.C. Chapter 35). This information collection is published to obtain comments from the public.

DATES: Comments will be accepted until April 10, 2013.

ADDRESSES: Interested parties are invited to submit written comments to the NCUA Contact and the OMB Reviewer listed below:

NCUA Contact: Tracy Crews, National Credit Union Administration, 1775 Duke Street, Alexandria, Virginia 22314-3428, Fax No. 703-837-2861, Email: OCIOMail@ncua.gov.

OMB Contact: Office of Management and Budget, ATTN: Desk Officer for the National Credit Union Administration, Office of Information and Regulatory Affairs, Washington, DC 20503.

FOR FURTHER INFORMATION CONTACT: Requests for additional information, a copy of the information collection request, or a copy of submitted comments should be directed to Tracy Crews at the National Credit Union Administration, 1775 Duke Street, Alexandria, VA 22314-3428, or at (703) 518-6444.

SUPPLEMENTARY INFORMATION:

I. Abstract and Request for Comments

NCUA is renewing the currently approved collection for 3133-0185. The collection includes the NCUA Vendor Registration Form (NCUA 1772) and instructions for completing the form. Section 342 of the Dodd-Frank Wall Street Reform and Consumer Protection Act (The “Dodd-Frank Act”) calls for NCUA (the “Agency”) to promote the inclusion of minority-owned and women-owned firms in the Agency's business activities. The Dodd-Frank Act also requires NCUA to annually report to Congress the total amounts paid to minority- and women-owned businesses. In order to comply with this Congressional mandate, NCUA needs to collect certain information from its current and potential vendors, so that it can identify businesses that meet the criteria that must be reported to Congress. Without the use of the vendor registration form, NCUA would not be able to capture the type of information that Congress is requiring under the Dodd-Frank Act. The section within the Dodd-Frank Act that makes it necessary to collect this information is as follows: Section 342(e)(2) Reports—Each office shall submit to Congress an annual report regarding the actions taken by the agency and the Office pursuant to this section, which shall include—the percentage of the amounts described in paragraph (1) that were paid to contractors described in subsection (c)(1) [minority-owned and women-owned businesses]. The vendor information is to be submitted to the agency on a one-time basis through a one-page vendor form. The one-page form is brief and asks for simple, readily available information. Additionally, NCUA plans to make this registration available electronically in a format that allows vendors to complete and submit online, without requiring any printing, manual entries, or faxing. The information provided will be used to assign an ownership status to the vendor (i.e., minority-owned business, woman-owned business) per the requirements of the Act. Once an ownership status is assigned to each vendor, NCUA will be able to calculate the total amounts of contracting dollars paid to minority-owned and women-owned businesses. There is no change in burden hours or cost from NCUA's last submission.

The NCUA requests that you send your comments on this collection to the location listed in the addresses section. Your comments should address: (a) The necessity of the information collection for the proper performance of NCUA, including whether the information will have practical utility; (b) the accuracy of our estimate of the burden (hours and cost) of the collection of information, including the validity of the methodology and assumptions used; (c) ways we could enhance the quality, utility, and clarity of the information to be collected; and (d) ways we could minimize the burden of the collection of the information on the respondents such as through the use of automated collection techniques or other forms of information technology. It is NCUA's policy to make all comments available to the public for review. Comments submitted in response to this notice will be summarized and/or included in the request for OMB approval. All comments will become a matter of public record.

II. Data

Proposal for the following collection of information:

OMB Number: 3133-0185.

Form Number: NCUA 1772.

Type of Review: Revision to the currently approved collection.

Title: NCUA Vendor Registration Form.

Description: Current and potential vendors complete a one-page registration form. The form asks for basic information from vendors interested in doing business with the agency. This information allows NCUA to provide Congress with required reports on contracts with minority-owned and women-owned firms.

Respondents: Current and potential vendors.

Estimated Number of Respondents/Recordkeepers: 1000.

Estimated Burden Hours per Response: 10 minutes.

Frequency of Response: Once.

Estimated Total Annual Burden Hours: 167 hours.

Estimated Total Annual Cost: $3,500.

By the National Credit Union Administration Board on March 5, 2013.
Mary Rupp,
Secretary of the Board.

[FR Doc. 2013-05555 Filed 3-8-13; 8:45 am]

BILLING CODE 7535-01-P